DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of October, 2001.

In order for an affirmative determination to be made and a certification of eligibility to apply for worker adjustment assistance to be issued, each of the group eligibility requirements of section 222 of the Act must be met.

(1) that a significant number or proportion of the workers in the workers' firm, or an appropriate subdivision thereof, have become totally or partially separated,

(2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,932; Rexam Beverage Can Co., Houston Can Plant, Houston, TX

In the following cases, the investigation revealed that the criteria for eligibility have not been met for the reasons specified.

Increased imports did not contribute importantly to worker separations at the firm.

TA-W-38,679; Kazoo, Inc., San Antonio, TX

TA-W-39,941; Finet Technologies, Dunmore, PA

TA-W-38,884; Freightliner LLC, Portland Truck Manufacturing Plant, Portland, OR

The workers firm does not produce an article as required for certification under section 222 of the Trade Act of 1974.

TA-W-40,120; Guardian Life Insurance, New York, NY

The investigation revealed that criteria (1) has not been met. A significant number or proportion of the workers did not become totally or partially separated from employment as required for certification.

TA-W-39,076; Republic Technologies International, Lackawanna Plant, Blasdell, NY

Affirmative Determinations for Worker Adjustment Assistance

The following certifications have been issued; the date following the company name and location of each determination references the impact date for all workers of such determination.

TA-W-39,519 FCI USA, Inc., Electronics Div., Mount Union, PA: June 14, 2000.

TA-W-39,386; Bennett Pump Co., Spring Lake, MI: May 17, 2000.

TA-W-39,479; Spectrum Control, Inc., Fairview, PA: June 1, 2000.

TA-W-39,944; Hilton Corporate Casuals, Div. Of K-2, Inc., Thomasville, AL: August 13, 2000.

TA-W-39,259; Techneglas, Inc., Columbus, OH: April 25, 2000.

TA-W-39,259A; Techneglas, Inc., Pittston, PA: July 9, 2001.

TA-W-40,068; Damy Industries, Sewing and Catalog Departments, Athens, TN: July 19, 2000.

TA-W-39,853; Altec, Inc., Tool Room, Liberty Lake, WA: August 2, 2000.

TA-W-39,639; American Steel and Wire, Cuyahoga Heights, OH: June 27, 2000.

TA-W-40,066; Stewart Connector Systems, Insilco Technologies, Group, Glen Rock, PA: October 23, 2001.

TA-W-39,741; The Stuckey Co., Norman, OK: July 18, 2000.

TA-W-40,232; Exide Technologies, Transportation Global Business Unit, Burlington, IA: October 8, 2000.

TA-W-39,914 & A; Reed Manufacturing Co., Nettleton, MS and Tupelo, MS: August 8, 2000.

TA-W-39,973; Interroll Corp., Wilmington, NC: July 12, 2000.

TA-W-39,905; Simonds Industries, Newcomerstown, OH: July 28, 2000.

TA-W-39,797; Centennial Tool and Manufacturing, Meadville, PA: July 30, 2000.

TA-W-39,106 & A, & B; Manpower, Ottumwa, IA, The Sedona Group, Moline, IL and RIH, Des Moines, IA: April 9, 2000.

Also, pursuant to Title V of the North American Free Trade Agreement Implementation Act (P.L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of October, 2001.

In order for an affirmative determination to be made and a certification of eligibility to apply for NAFTA-TAA the following group eligibility requirements of section 250 of the Trade Act must be met:

(1) that a significant number or proportion of the workers in the workers' firm, or an appropriate subdivision thereof (including workers in any agricultural firm or appropriate subdivision thereof), have become totally or partially separated from employment and either—

(2) that sales or production, or both, of such firm or subdivision have decreased absolutely,

(3) that imports from Mexico or Canada of articles like or directly competitive with articles produced by such firm or subdivision have increased, and that the increased imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05014A; Thomaston Mills, Inc., Finishing Div., Finishing Apparel Dept., Thomaston, GA

NAFTA-TAA-05268; Summit Circuits, Inc., Fort Wayne, IN

NAFTA-TAA-05062; M&S Manufacturing Co., Plant #7, Hudson, MI

NAFTA-TAA-05226; Finet Technologies, Dunmore, PA

NAFTA-TAA-05242; Rexam Beverage Can Co., Houston Can Plant, Houston, TX

NAFTA-TAA-05157; Centennial Tool and Manufacturing, Meadville, PA

NAFTA-TAA-04355; Fishman and Tobin, Inc., Cutting Dept., Medley, FL

The workers firm does not produce an article as required for certification under section 222 of the Trade Act of 1974.

NAFTA-TAA-05285; Sykes Enterprises, Irvine, CA

NAFTA-TAA-05345; Pinnacle Logistics, Inc., El Paso, TX

NAFTA-TAA-04915; Equitable Resources, div. Of Kentucky West Virginia Gas Co. LLC, Prestonburg, KY

The investigation revealed that criteria (1) has not been met. A significant number or proportion of the workers in such workers' firm or an appropriate subdivision (including workers in any agricultural firm or appropriate subdivision thereof) did not become totally or partially separated from employment.

NAFTA-TAA-05241; The Gillette Co., Oral-B Laboratories, Iowa City, IA

Affirmative Determinations NAFTA-TAA

NAFTA-TAA-05216; Bard Access Systems, Div. Of C.R. Bard, Salt Lake City, UT: August 14, 2001

NAFTA-TAA-05284; Hilton Corporate Casuals, Div. Of K-2, Inc., Thomasville, AL: August 13, 2000.

NAFTA-TAA-04922; G.E. Marquette Medical Systems, d/b/a/ Corometrics, Wallingford, CT: May 15, 2000.

NAFTA-TAA-05103; PEC of America Corp., San Diego, CA: July 12, 2000.

NAFTA-TAA-05014, A,B,C, & D; Thomaston Mills, Inc., Peerless, Div., Thomaston, GA. Finishing Div., Finishing Consumer Dept., Thomaston, GA, Lakeside Div., Thomaston, GA, Corporate Office, Thomaston, GA and New York Office, New York, NY: June 16, 2000.

NAFTA-TAA-05042; Exide Technologies, Transportation Global Business Unit, Burlington, IA: June 26, 2000.

NAFTA-TAA-05078; Bourns, Inc., Sensors and Controls Div., Ogden, UT: July 16, 2000.

NAFTA-TAA-05027; Lear Corp., Romulus Plant #2, Seating Systems Div., Romulus, MI: June 28, 2000.

NAFTA-TAA-05328; Stewart Connector Systems, Insilco Technologies Group, Glen Rock, PA: September 10, 2000.

NAFTA-TAA-05142; Agrium U.S., Inc., Kennewick Fertilizer Operation, The Finley Plant, Kennewick, WA: July 16, 2000.

NAFTA-TAA-04844; Spectrum Control, Inc., Fairview, PA: April 2, 2000.

NAFTA-TAA-05003; FCI USA, Inc., Electronics Div., Mount Union, PA: June 14, 2000.

NAFTA-TAA-04836; Honeywell, Engines & Systems, Environmental Control Div., Torrance, CA: May 1, 2000.

I hereby certify that the aforementioned determinations were issued during the month of October, 2001. Copies of these determinations are available for inspection in Room C-5311, U.S. Department of Labor, 200 Constitution Avenue, NW., Washington, DC 20210 during normal business hours or will be mailed to persons who write to the above address.

Dated: October 29, 2001.
Edward A. Tomchick,
Director, Division of Traded Adjustment Assistance.

[FR Doc. 01-27804 Filed 11-5-01; 8:45 am]

BILLING CODE 4510-30-M